FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011716.

Title: P&O Nedlloyd-Farrell/Hapag-Lloyd Mediterranean Space Charter Agreement.

Parties: P&O Nedlloyd Limited/P&O Nedlloyd B.V., Farrell Lines Incorporated, Hapag Lloyd Container Linie GmbH.

Synopsis: Under the proposed agreement, the parties agree to exchange/charter space on vessels in the trade between the U.S. East Coast and countries on the Mediterranean Sea (together with Portugal). It also authorizes the parties to discuss and agree on the number, size and characteristics of vessels deployed and provides the number of slots allocated. The parties request expedited review.

By Order of the Federal Maritime Commission.
Dated: July 14, 2000.
Bryant L. VanBrakle,
Secretary.

[FR Doc. 00-18268 Filed 7-18-00; 8:45 am]

BILLING CODE 6730-01-P